DEPARTMENT OF ENERGY

Western Area Power Administration

Boulder Canyon Project-Firm Power Services Base Charge and Rates

AGENCY: Western Area Power Administration, DOE.

ACTION: Notice of proposal to extend rate setting formula.

SUMMARY: Western Area Power Administration's (Western) Desert Southwest Customer Service Region is initiating a rate adjustment process for the Boulder Canyon Project (BCP). Western proposes to extend the existing rate setting formula, and approve the proposed base charge and rates for FY 2001. This Federal Register notice begins the formal rate adjustment process for the proposed base charge and rates.

DATES: The consultation and comment period begins today and ends June 8, 2000. Western will hold a public information forum on April 13, 2000, beginning at 10 a.m. MST, at the Desert Southwest Customer Service Regional Office to explain the proposed base charge and rates. Western will receive oral and written comments at a public comment forum on May 9, 2000, beginning at 10 a.m. MST, also to be held at the Desert Southwest Customer Service Regional Office.

ADDRESSES: Send written comments to: Mr. J. Tyler Carlson, Regional Manager, Desert Southwest Customer Service Region, Western Area Power Administration, P.O. Box 6457, Phoenix, AZ 85005-6457, or by e-mail: carlson@wapa.gov. Western must receive written comments by the end of the consultation and comment period to be assured consideration. The Desert Southwest Customer Service Regional Office is located at 615 South 43rd Avenue, Phoenix, Arizona.

FOR FURTHER INFORMATION CONTACT: Mr. Maher A. Nasir, Rates Team Lead, Desert Southwest Customer Service Region, Western Area Power Administration, P.O. Box 6457, Phoenix, AZ 85005-6457, (602) 352-2768, or by e-mail: nasir@wapa.gov.

SUPPLEMENTARY INFORMATION: Annual base charge and rates adjustments are required by the existing rate setting formula approved by the Federal Energy Regulatory Commission (FERC) on April 19, 1996. The existing rate schedule was placed into effect on November 1, 1995. Western proposes to extend the existing rate setting formula through September 30, 2005, and approve the proposed base charge and rates for FY 2001. The proposed base charge for FY 2001 is $49,460,974. The proposed forecasted energy rate is 5.70 mills per kilowatthour (kWh), and the proposed forecasted capacity rate is $1.02 per kilowattmonth (kWmonth). The existing base charge is $46,145,334. The existing forecasted energy rate is 4.59 mills per kWh, and the existing forecasted capacity rate is $0.95 per kWmonth. The projected base charge and rates adjustments are due to increases in the annual operating expenses and will be explained during the rate adjustment process. All brochures, studies, comments, letters, memorandums, and other documents made or kept by Western in developing the proposed base charge and rates will be made available to all power customers and interested parties. The extension of the existing rate schedule and proposed firm power services base charge and rates are scheduled to become effective October 1, 2000.

Under Amendment No. 3 to Delegation Order No. 0204-108, published November 10, 1993 (58 FR 59716), the Secretary of Energy delegated (1) the authority to develop long-term power and transmission rates on a nonexclusive basis to Western's Administrator; and (2) the authority to confirm, approve, and place into effect on a final basis, to remand, or to disapprove such rates to FERC. In Delegation Order No. 0204-172, effective November 24, 1999, the Secretary of Energy delegated the authority to confirm, approve, and place such rates into effect on an interim basis to the Deputy Secretary. Existing DOE procedures for public participation in power rate adjustments are located at 10 CFR part 903, effective on September 18, 1985 (50 FR 37835).

The proposed firm power services base charge and rates for BCP are being established pursuant to the Department of Energy Organization Act (42 U.S.C. 7101, et seq.) and the Reclamation Act of 1902 (43 U.S.C. 371, et seq.), as amended and supplemented by subsequent enactments, particularly section 9(c) of the Reclamation Project Act of 1939, 43 U.S.C. 485h(c) and section 8 of the Act of August 31, 1964, 16 U.S.C. 837g, the Colorado River Basin Project Act of 1968 (43 U.S.C. 1501, et seq.), the Colorado River Storage Project Act (43 U.S.C. 620, et seq.), the Boulder Canyon Project Act (43 U.S.C. 617, et seq.), the Boulder Canyon Project Adjustment Act (43 U.S.C. 618, et seq.), the Hoover Power Plant Act of 1984 (43 U.S.C. 619, et seq.), the General Regulations for Power Generation, Operation, Maintenance, and Replacement at the BCP, Arizona/Nevada (43 CFR part 431) published in the Federal Register (51 FR 23960) on July 1, 1986, and the General Regulations for the Charges for the Sale of Power from the BCP, Final Rule (10 CFR part 904) published in the Federal Register (50 FR 37837) on September 18, 1985, and the DOE financial reporting policies, procedures, and methodology (DOE Order No. RA 6120.2, dated September 20, 1979).

Both a public information forum and a public comment forum will be held. After considering public comments, Western will recommend a proposed base charge and rates to be approved on an interim basis by the Deputy Secretary.

Regulatory Procedural Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. Western has determined that this action does not require a regulatory flexibility analysis since it applies to rates or services applicable to public property.

Environmental Compliance

In compliance with the National Environmental Policy Act of 1969 (NEPA) (42 U.S.C. 4321, et seq.); Council On Environmental Quality Regulations (40 CFR parts 1500-1508); and DOE NEPA Regulations (10 CFR part 1021), Western has determined that this action is categorically excluded from the preparation of an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: February 25, 2000.
Michael S. Hacskaylo,
Administrator.

[FR Doc. 00-5947 Filed 3-9-00; 8:45 am]

BILLING CODE 6450-01-U